ENVIRONMENTAL PROTECTION AGENCY

[ER-FRL-9029-5]

Environmental Impact Statements; Notice of Availability

Responsible Agency: Office of Federal Activities, General Information (202) 564-7146 or http://www.epa.gov/nepa.

Weekly receipt of Environmental Impact Statements (EISs)

Filed 09/26/2016 through 09/30/2016

Pursuant to 40 CFR 1506.9.

Notice

Section 309(a) of the Clean Air Act requires that EPA make public its comments on EISs issued by other Federal agencies. EPA's comment letters on EISs are available at: http://www.epa.gov/compliance/nepa/eisdata.html.

EIS No. 20160225, Final, BR, NM, Continued Implementation of the 2008 Operating Agreement for the Rio Grande Project, Review Period Ends: 11/07/2016, Contact: Hector Garcia 505-462-3550

EIS No. 20160226, Draft, FRA, GA, Atlanta to Chattanooga High Speed Ground Transportation Project, Comment Period Ends: 11/21/2016, Contact: John Winkle 202-493-6067

EIS No. 20160227, Draft, USFS, WY, Upper Green River Area Rangeland Project, Comment Period Ends: 11/21/2016, Contact: Dave Booth 307-367-5754

EIS No. 20160228, Final Supplement, BLM, ID, Proposed Land Use Plan Amendments for Segments 8 and 9 of the Gateway West 500-kV Transmission Line Project, Review Period Ends: 11/07/2016, Contact: Jim Stobaugh 775-861-6478

EIS No. 20160229, Final, DOE, ID, Recapitalization of Infrastructure Supporting Naval Spent Nuclear Fuel Handling at the Idaho National Laboratory, Review Period Ends: 11/07/2016, Contact: Erik Anderson 202-781-6057

EIS No. 20160230, Draft, USACE, WA, Millennium Bulk Terminals—Longview, Comment Period Ends: 11/29/2016, Contact: Danette L. Guy 206-316-3048

Amended Notices

EIS No. 20160200, Draft, USACE, NY, Atlantic Coast of New York, East Rockaway Inlet to Rockaway Inlet and Jamaica Bay, Comment Period Ends: 11/17/2016, Contact: Robert J. Smith 917-790-8729

Revision to FR Notice Published 09/02/2016; Extending Comment Period from 11/02/2016 to 11/17/2016

Dated: October 4, 2016.
Dawn Roberts,
Management Analyst, NEPA Compliance Division, Office of Federal Activities.

[FR Doc. 2016-24335 Filed 10-6-16; 8:45 am]

BILLING CODE 6560-50-P